DEPARTMENT OF ENERGY

Environmental Management Site-Specific Advisory Board Chairs Meeting

AGENCY: Department of Energy.

ACTION: Notice of Open Meeting.

SUMMARY: This notice announces a meeting of the Environmental Management Site-Specific Advisory Board (EM SSAB) Chairs Meeting. The Federal Advisory Committee Act (Pub. L. 92-463, 86 Stat. 770) requires that public notice of these meeting be announced in the Federal Register.

DATES: October 17-19, 2002.

ADDRESSES: Marriott Hotel, 500 Hill Avenue, Knoxville, TN Phone: 1-800-932-2198.

FOR FURTHER INFORMATION CONTACT: Pat Halsey, Federal Coordinator, Department of Energy Oak Ridge Operations Office, PO Box 2001, EM-922, Oak Ridge, TN 37831. Phone (865) 576-4025; Fax (865) 576-5333 or e-mail: halseypj@oro.doe.gov.

SUPPLEMENTARY INFORMATION: Purpose of the Board: The purpose of the Board is to make recommendations to DOE and its regulators in the areas of environmental restoration, waste management, and related activities.

Tentative Agenda

Friday, October 18, 2002

8-8:30 a.m. Registration

8:30-9 a.m. Welcome by Dave Mosby, OR SSAB Chair; Welcome by Gerald Boyd, OR DOE AMEM; Introductions; Meeting Guidelines; Agenda Review; Expectations of Participants

9 a.m. Comments from Ms. Jessie Roberson, EM-1, DOE-HQ

9:15 a.m. Facilitated discussion, SSAB members and Ms. Roberson

10 a.m. Break

10:15 a.m. SSAB issues roundtable presentations (5 minutes per site)

11 a.m. SSAB issues roundtable facilitated discussion

11:30 a.m. Presentation by Brian Quirke, DOE Chicago, Public Affairs, on Communicating More Effectively With the Public

Noon Lunch

1 p.m. Meeting assessment and questions from the morning

1:10 p.m. Presentation by Paul Golan, DOE HQ, on ACP, PMP

1:40 p.m. Facilitated discussion SSAB members and Mr. Golan

2:45 p.m. Break

3 p.m. SSAB issues roundtable facilitated discussion continued

3:45 p.m. Presentation by Mr. Blaine Rowley, DOE-HQ-DOE Response to the Groundwater Workshop Letter

4 p.m. Facilitated discussion, SSAB members and Mr. Rowley

4:45 p.m. Wrap up and critique of the day; Agenda for next day

Saturday, October 19, 2002

8-8:30 a.m. Registration

8:30-8:45 a.m. Welcome; Tie up loose ends; Review; Agenda

8:45 a.m. Presentation by Jim Brannon, NNM SSAB Chair—Tru Waste and Transportation Workshop at the WIPP

9:15 a.m. Chairs Discussion—Future Workshops and Chairs Meetings

9:45 a.m. Break

10 a.m. SSAB issues roundtable facilitated discussion continues

11:30 p.m. Public comment period

Noon Wrap up and review action items, outstanding issues; Critique meeting

Public Participation: The meeting is open to the public. Written statements may be filed with the Committee either before or after the meeting. Individuals who wish to make oral statements pertaining to agenda items should contact Pat Halsey at the address or telephone number listed above. Requests must be received five days prior to the meeting and reasonable provision will be made to include the presentation in the agenda. The Deputy Designated Federal Officer is empowered to conduct the meeting in a fashion that will facilitate the orderly conduct of business. Each individual wishing to make public comment will be provided a maximum of five minutes to present their comments at the end of the meeting.

Minutes: Minutes of this meeting will be available for public review and copying at the Freedom of Information Public Reading Room, 1E-190, Forrestal Building, 1000 Independence Avenue, SW., Washington, DC 20585 between 9 a.m. and 4 p.m., Monday-Friday except Federal holidays. Minutes will also be available by writing or calling Pat Halsey at the address or telephone number listed above.

Issued at Washington, DC on September 23, 2002.
Belinda G. Hood,
Acting Deputy Advisory Committee Management Officer.

[FR Doc. 02-24600 Filed 9-26-02; 8:45 am]

BILLING CODE 6450-01-P